DEPARTMENT OF VETERANS AFFAIRS

38 CFR Part 21

RIN 2900-AJ69

Modified Eligibility Criteria for the Montgomery GI Bill—Active Duty

AGENCY: Department of Veterans Affairs.

ACTION: Final rule.

SUMMARY: This document amends the educational assistance and education benefit regulations of the Department of Veterans Affairs (VA). The amendments reflect statutory changes in the eligibility criteria for the Montgomery GI Bill—Active Duty which were made by the Veterans Programs Enhancement Act of 1998. This document also makes other changes for the purpose of clarification.

DATES: Effective Date: This final rule is effective April 18, 2000.

Applicability Date: October 1, 1998.

FOR FURTHER INFORMATION CONTACT: William G. Susling, Jr., Education Advisor, Education Service (225C), Veterans Benefits Administration, 202-273-7187.

SUPPLEMENTARY INFORMATION: The Veterans Programs Enhancement Act of 1998 (Pub. L. 105-368) contains provisions that affect the educational assistance and education benefit regulations. This document amends these regulations to correspond with new statutory provisions concerning the education criteria an individual must meet in order to establish eligibility for the Montgomery GI Bill—Active Duty (MGIB).

To meet the eligibility criteria for the MGIB, a veteran, among other things, must have completed the requirements of a secondary school diploma (or the equivalency certificate). Previously, if a veteran did not actually receive a diploma, by statute a veteran could have met this criterion only by successfully completing within statutory deadlines the equivalent of 12 semester hours.

Public Law 105-368 provides that the criterion will also be met if the veteran otherwise receives academic credit for the equivalent of 12 semester hours. Thus, a veteran who did not actually earn 12 semester hours credit, but who received academic credit for 12 semester hours because of his or her life experiences before the applicable deadline, would now be eligible for MGIB. We are amending 38 CFR 21.7042, 21.7044, and 21.7045 to reflect this provision of law. We are also making nonsubstantive changes for the purpose of clarity.

Consistent with the effective date provisions of section 203 of Public Law 105-368, the date of applicability for the provisions in this final rule that affect eligibility criteria for the Montgomery GI Bill—Active Duty is October 1, 1998.

Substantive changes made by this final rule merely reflect statutory requirements. Accordingly, there is a basis for dispensing with prior notice and comment and delayed effective date provisions of 5 U.S.C. 552 and 553.

The Secretary of Veterans Affairs hereby certifies that this final rule will not have a significant economic impact on a substantial number of small entities as they are defined in the Regulatory Flexibility Act, 5 U.S.C. 601-612. This final rule directly affects only individuals. Pursuant to 5 U.S.C. 605(b), this final rule, therefore, is exempt from the initial and final regulatory flexibility analyses requirements of sections 603 and 604.

The Catalog of Federal Domestic Assistance number for the program affected by this final rule is 64.124.

List of Subjects in 38 CFR Part 21

Administrative practice and procedure, Armed forces, Civil rights, Claims, Colleges and universities, Conflict of interests, Defense Department, Education, Employment, Grant programs-education, Grant programs-veterans, Health programs, Loan programs-education, Loan programs-veterans, Manpower training programs, Reporting and recordkeeping requirements, Schools, Travel and transportation expenses, Veterans, Vocational education, Vocational rehabilitation.

Approved: April 10, 2000.
Togo D. West, Jr.,
Secretary of Veterans Affairs.

For the reasons set forth in the preamble, VA amends 38 CFR part 21 (subpart K) as set forth below:

PART 21—VOCATIONAL REHABILITATION AND EDUCATION

Subpart K—All Volunteer Force Educational Assistance Program (Montgomery GI Bill—Active Duty)

1. The authority citation for part 21, subpart K is revised to read as follows:

Authority: 38 U.S.C. 501(a), chs. 30, 36, unless otherwise noted.

2. In § 21.7042, paragraphs (a)(3)(ii), (b)(2)(ii), and (c)(4)(ii) are revised to read as follows:

§ 21.7042 Basic eligibility requirements.

* * * * *

(a) * * *

(3) * * *

(ii) Successfully complete (or otherwise receive academic credit for) 12 semester hours (or the equivalent) in a program of education leading to a standard college degree; and

(Authority: 38 U.S.C. 3011, 3012, 3016)

* * * * *

(b) * * *

(2) * * *

(ii) Successfully complete (or otherwise receive academic credit for) 12 semester hours (or the equivalent) in a program of education leading to a standard college degree;

(Authority: 38 U.S.C. 3011, 3012, 3016)

* * * * *

(c) * * *

(4) * * *

(ii) Successfully complete (or otherwise receive academic credit for) 12 semester hours (or the equivalent) in a program of education leading to a standard college degree.

* * * * *

3. In § 21.7044, paragraphs (a)(3)(ii) and (b)(3)(ii) are revised to read as follows:

§ 21.7044 Persons with eligibility under 38 U.S.C. chapter 34.

* * * * *

(a) * * *

(3) * * *

(ii) Successfully complete (or otherwise receive academic credit for) 12 semester hours (or the equivalent) in a program of education leading to a standard college degree. This may be done at any time.

* * * * *

(b) * * *

(3) * * *

(ii) Successfully complete (or otherwise receive academic credit for) 12 semester hours (or the equivalent) in a program of education leading to a standard college degree. This may be done at any time.

(Authority: 38 U.S.C. 3012 (a), (b))

* * * * *

4. In § 21.7045, paragraphs (b)(3)(i) and (c)(3)(i) are revised to read as follows:

§ 21.7045 Eligibility based on involuntary separation or voluntary separation.

* * * * *

(b) * * *

(3) Educational requirement. (i) Before the date on which VA receives the individual's application for educational assistance under subpart K of this part, the individual must have:

(A) Successfully completed the requirements of a secondary school diploma (or equivalency certificate); or

(B) Successfully completed (or otherwise received academic credit for) 12 semester hours (or the equivalent) in a program of education leading to a standard college degree.

(c) * * *

(3) Educational requirement. (i) Before the date on which VA receives the individual's application for educational assistance under subpart K of this part, the individual must have:

(A) Successfully completed the requirements of a secondary school diploma (or equivalency certificate); or

(B) Successfully completed (or otherwise received academic credit for) 12 semester hours (or the equivalent) in a program of education leading to a standard college degree.

* * * * *

[FR Doc. 00-9603 Filed 4-17-00; 8:45 am]

BILLING CODE 8320-01-P